DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by American Soda, LLC.

DATES: All comments on the petition must be received by MSHA's Office of Standards, Regulations, and Variances on or before December 6, 2024.

ADDRESSES: You may submit comments identified by Docket No. MSHA-2024-0031 by any of the following methods:

1. Federal eRulemaking Portal: https://www.regulations.gov. Follow the instructions for submitting comments for MSHA-2024-0031.

2. Fax: 202-693-9441.

3. Email: petitioncomments@dol.gov.

4. Regular Mail or Hand Delivery: MSHA, Office of Standards, Regulations, and Variances, 201 12th Street South, Suite 4E401, Arlington, Virginia 22202-5452.

Attention: S. Aromie Noe, Director, Office of Standards, Regulations, and Variances. Persons delivering documents are required to check in at the receptionist's desk, 4th Floor West. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). (These are not toll-free numbers.)

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2024-001-M.

Petitioner: American Soda, LLC, P.O. Box 1167, 400 County Road 85, Green River, WY 82935.

Mine: American Soda LLC Mine, MSHA ID No. 48-01295, located in Sweetwater County, Wyoming.

Regulation Affected: 30 CFR 57.22305, Approved equipment (III mines).

Modification Request: The petitioner requests a modification of 30 CFR 57.22305 to permit an alternative method of compliance for the respiratory protection of miners. The petitioner proposes to use a non-MSHA approved, intrinsically safe battery-powered air purifying respirator (PAPR) product called a Dräger X-plore 8700 EX to protect miners from potential exposure to respirable dust and ammonia gas during normal mining conditions in or beyond the last open crosscut and where methane may enter the air current.

The petitioner states that:

(a) American Soda, LLC, is requesting relief from 30 CFR 57.22305 to provide an alternative method of respiratory protection for mine employees exposed to respirable dust and ammonia gas. Application of this standard will reduce the health and safety of our miners by not affording them safe and effective equipment.

(b) In conjunction with this petition for modification, energy and resources are being spent to engineer controls to reduce hazards from respirable dust and silica. This is a continuing process that requires time and capital to accomplish. While this process is taking place American Soda, LLC, is trying to provide the maximum level of protection and comfort to the miners.

(c) To offer miners at this facility the best possible protection from exposure to respirable dust and ammonia gas, American Soda, LLC, wishes to incorporate the latest available technology in respiratory protection. American Soda, LLC, is submitting a petition for modification for the “Dräger X-plore 8700 EX.”

(d) MSHA has given American Soda, LLC, the opportunity to provide protection to our miners. The approval of the TR-800 and the CleanSpace EX has given our miners the maximum protection available against silica crystal, respirable dust and ammonia gas. Mining is a dynamic operation, and no two tasks are the same. We therefore are seeking as many options for our miners as possible. This petition is in an effort to add another more ergonomic option for our miners.

(e) Due to the discontinuing of the 3M Airstream PAPR, American Soda, LLC, has been forced to seek a replacement PAPR for the health and safety of our miners.

(f) American Soda, LLC's research regarding available PAPRs identified two with MSHA approval. The 3M Airstream model has been discontinued by the manufacturer. The Kasco K80 ET8 unit is currently the only unit available with MSHA approval. Although the Kasco K80 ET8 unit meets MSHA approval for intrinsic safety, the unit poses recognizable safety and health deficiencies. When we examined the hood and unit, we found it very cumbersome to don. It also restricted communication considerably, to the point where the user would have to remove the entire hood to both hear and talk. We felt this put an unnecessary burden on miners as they require the best conditions in communication. Once donned the unit restricted peripheral vision thus introducing additional risk to the miner.

(g) Our currently approved petition for modification units in use today are the TR-800 and the CleanSpace EX. The Dräger X-plore 8700 EX would give our miners a third, more ergonomic option.

(h) As stated previously, American Soda, LLC, is committed to the health and safety of our miners and provides our employees with the best available respiratory protection. The Dräger X-plore 8700 EX provides a level of respiratory protection and safety equal to the already approved TR-800 and Clean space EX with additional enhancements to meet the needs of miners. The unit provides an alternative means of respiratory protection for different tasks. This affords miners an additional, more ergonomic, option to provide respiratory protection for employees.

(i) The Dräger X-plore 8700 EX unit is certified by UL under ANSI/UL 60079-11 standard. Per this certification, the Dräger X-plore 8700 EX unit is specialized to be used in hazardous locations, has met the most onerous level of intrinsic safety protection, and the level of protection is acceptable for use in mines susceptible to firedamp.

(j) The Dräger X-plore 8700 EX unit provides a NIOSH approved high-capacity, high efficiency (HEPA) particulate/vapor filter for the half facemask and a NIOSH approved HEPA particulate filter for the full facemask.

(k) The Dräger X-plore 8700 EX does not restrict the vision or impair communication of the miner.

(l) The Dräger X-plore 8700 EX incorporates technology which places the filter housing and fan assembly on an ergonomically comfortable belt.

(m) The Dräger X-plore 8700 EX respirator provides a level of comfort beyond additional PAPR units when operating mining equipment due to limited space and mobility in the machine operator's cab.

(n) The Dräger X-plore 8700 EX helmet meets Z89.1, Type 1, Class G helmet Standard.

(o) The Dräger X-plore 8700 EX eye protection meets ANSI Z87.1 Standard.

(p) The Dräger X-plore 8700 EX unit can be easily disassembled and cleaned.

The petitioner proposes the following alternative method:

(a) Prior to energizing the Dräger X-plore 8700 EX in or beyond the last open crosscut or in areas where methane may enter the air current, a methane test shall be conducted in the mine atmosphere as defined in 30 CFR 57.2.

(b) Before the Dräger X-plore 8700 EX can be used in or beyond the last open crosscut, a check of the instrument for any physical damage and the integrity of the case shall be conducted. The battery shall be removed and inspected for corrosion, including the contact points to ensure connection. The battery shall be reinserted, and the unit shall be powered up and then shut down to ensure proper connections. An inspection to ensure the battery compartment cover is securely fastened and an inspection of the battery for swelling and damage shall be conducted. Training shall be required for all miners on the pre-operational inspection and use of the Dräger X-plore 8700 EX.

(c) The Dräger X-plore 8700 EX shall not be used in or beyond the last open crosscut or in areas where methane may enter the air current until MSHA has initially inspected the equipment and determined that it is in compliance with all the terms and conditions of the Proposed Decision and Order (PDO) granted by MSHA.

(d) The Dräger X-plore 8700 EX shall not be used if methane is detected in concentrations at or above 1.0 percent. When 1.0 percent or more methane is detected while the Dräger X-plore 8700 EX is being used, the equipment shall be de-energized immediately. The Dräger X-plore 8700 EX shall be withdrawn from the affected areas.

(e) All handheld methane detectors shall be MSHA approved and maintained in permissible and proper operating condition, as defined by 30 CFR 57.22227. All methane detectors must provide visual and audible warnings when methane is detected at or above 1.0 percent.

(f) A competent person, as defined in 30 CFR 57.2, shall continuously monitor for methane immediately before and during the use of the Dräger X-plore 8700 EX in or beyond the last open crosscut or in areas where methane may enter the air current. For a crew working together, at least one competent person shall continuously monitor for methane. Alternatively, continuous monitoring systems along longwall faces, which provide an audible and visual alarm when 1.0 percent methane is detected, shall satisfy this requirement.

(g) Batteries contained in the Dräger X-plore 8700 EX must be “changed out” or “charged” in intake air. Before each shift when the Dräger X-plore 8700 EX is to be used, all batteries for the equipment must be charged sufficiently such that they are not expected to be replaced on that shift.

(h) The Dräger LBT 04 LI-ION shall be charged on the surface or underground in accordance with 30 CFR 57.22224.

(i) The Dräger LBT 04 LI-ION shall be charged only by the Dräger X-plore 8000 EX standard charger or the Dräger X-plore 8000 multiple charger.

(j) The battery pack shall not be disassembled or modified by anyone other than permitted by the manufacturer of the equipment.

(k) The battery pack shall not be exposed to water or allowed to get wet. This does not preclude incidental exposure of sealed battery packs.

(l) The battery shall not be exposed to direct sunlight or used or stored near a source of heat.

(m) The battery shall not be used at the end of its life cycle (e.g., when there is a performance decrease of greater than 20 percent in battery operated equipment). The battery shall be disposed of properly.

(n) The mine operator shall investigate the potential for electromagnetic interference between the Dräger X-plore 8700 EX and all safety devices carried or worn by miners, such as proximity detection system miner wearable components, gas detectors, tracking system components, and communication devices. Before any Dräger X-plore 8700 EX devices are placed into service, the mine operator shall report to their MSHA District whether any interference is identified along with the procedures the mine operator will implement to eliminate the interference. All miners shall be trained in these procedures.

(o) Personnel engaged in the use of Dräger X-plore 8700 EX shall be properly trained to recognize the hazards and limitations associated with the use of the PAPR in areas where methane could be present.

(p) All section foremen, section crew members, and other personnel who will be involved with or affected by the use of the PAPR shall receive training in accordance with 30 CFR 48.7 on the requirements of the PDO granted by MSHA within 60 days of the date the PDO granted by MSHA becomes final. Such training must be completed before any Dräger X-plore 8700 EX is used in or beyond the last open crosscut or in areas where methane may enter the air current.

(q) Within 60 days after the PDO granted by MSHA becomes final, the operator shall submit proposed revisions for its approved 30 CFR part 48 training plan to the Mine Safety and Health District Manager. These proposed revisions shall include donning a Self-Contained Self Rescuer (SCSR) while using the PAPR, and initial and refresher training regarding the terms and conditions stated in the PDO granted by MSHA. When training is conducted on the terms and conditions in the PDO granted by MSHA, an MSHA Certificate of Training (Form 5000-23) shall be completed and include the notation “Dräger X-plore 8700 EX PAPR training”.

(r) The operator shall post the PDO granted by MSHA in unobstructed locations on the bulletin boards and/or in other conspicuous places where notices to miners are ordinarily posted, for a period of not less than 60 consecutive days.

(s) Affected mine employees shall be trained in the proper use and care of the Dräger X-plore 8700 EX unit in accordance with established manufacturer guidelines.

(t) If 1.0 percent or more methane is detected, the procedures in 30 CFR 7.22234 shall be followed.

(u) The miners at American Soda LLC mine are not represented by a labor organization and there are no designated representatives of miners. A copy of this petition has been posted for all miners to see on the mine bulletin board on August 22, 2024.

In support of the proposed alternative method, the petitioner has also submitted: a Dräger X-plore 8700 EX Certificate of Conformity, a Dräger X-plore 8700 EX ATEX Certificate, a battery pack operating manual, and a Dräger X-plore 8700 EX data sheet.

The petitioner asserts that that application of the standard in 30 CFR 57.22305 will reduce the safety of the miners affected and has proposed to establish an alternative method.

Song-ae Aromie Noe,
Director, Office of Standards, Regulations, and Variances.

[FR Doc. 2024-25720 Filed 11-5-24; 8:45 am]

BILLING CODE 4520-43-P